BUREAU OF CONSUMER FINANCIAL PROTECTION

[Docket No. CFPB-2018-0014]

Request for Information Regarding the Bureau's Consumer Complaint and Consumer Inquiry Handling Processes

AGENCY: Bureau of Consumer Financial Protection.

ACTION: Notice and request for information.

SUMMARY: The Bureau of Consumer Financial Protection (Bureau) is seeking comments and information from interested parties to assist the Bureau in assessing its handling of consumer complaints and consumer inquiries and, consistent with law, considering whether changes to its processes would be appropriate.

DATES: Comments must be received by July 16, 2018.

ADDRESSES: You may submit responsive information and other comments, identified by Docket No. CFPB-2018-0014, by any of the following methods:

• Electronic: Go to http://www.regulations.gov. Follow the instructions for submitting comments.

• Email: FederalRegisterComments@cfpb.gov. Include Docket No. CFPB-2018-0014 in the subject line of the message.

• Mail: Comment Intake, Consumer Financial Protection Bureau, 1700 G Street NW, Washington, DC 20552.

• Hand Delivery/Courier: Comment Intake, Consumer Financial Protection Bureau, 1700 G Street NW, Washington, DC 20552.

Instructions: The Bureau encourages the early submission of comments. All submissions must include the document title and docket number. Please note the number of the topic on which you are commenting at the top of each response (you do not need to address all topics). Because paper mail in the Washington, DC area and at the Bureau is subject to delay, commenters are encouraged to submit comments electronically. In general, all comments received will be posted without change to http://www.regulations.gov. In addition, comments will be available for public inspection and copying at 1700 G Street NW, Washington, DC 20552, on official business days between the hours of 10 a.m. and 5 p.m. Eastern Time. You can make an appointment to inspect the documents by telephoning 202-435-7275.

All submissions in response to this request for information, including attachments and other supporting materials, will become part of the public record and subject to public disclosure. Proprietary information or sensitive personal information, such as account numbers or Social Security numbers, or names of other individuals, should not be included. Submissions will not be edited to remove any identifying or contact information.

FOR FURTHER INFORMATION CONTACT: Darian Dorsey, Deputy Assistant Director, Office of Consumer Response, at 202-435-7268. If you require this document in an alternative electronic format, please contact CFPB_Accessibility@cfpb.gov.

SUPPLEMENTARY INFORMATION: An important aspect of the Bureau's mission is hearing directly from the American public about their experiences in the consumer financial marketplace. Pursuant to 12 U.S.C. 5511(c)(2), “collecting, investigating, and responding to consumer complaints” is one of the six statutory “primary functions” of the Bureau. In addition, ensuring that “consumers are provided with timely and understandable information to make responsible decisions about financial transactions” is one of its six enumerated objectives.¹

¹ 12 U.S.C. 5511(b)(1).

In furtherance of these statutory mandates, the Dodd-Frank Wall Street Reform and Consumer Protection Act (Dodd-Frank Act) requires the Bureau to establish a unit to “facilitate the centralized collection of, monitoring of, and response to consumer complaints regarding consumer financial products or services” ² and directs the Bureau to establish reasonable procedures to provide timely responses to consumer complaints and consumer inquiries.³ The Bureau defines consumer complaints as “submissions that express dissatisfaction with, or communicate suspicion of wrongful conduct by, an identifiable entity related to a consumer's personal experience with a financial product or service.” ⁴ To date, the Bureau has not published its definition of consumer inquiries; however, as an operational matter for the purposes of establishing reasonable procedures for providing timely responses to consumer inquiries and for the purposes of this request for information, the Bureau defines consumer inquiries as consumer requests for information—typically proffered by telephone—to its Office of Consumer Response about consumer financial products or services, the status of a complaint, an action taken by the Bureau, and often combinations thereof.⁵

² The Bureau's Office of Consumer Response (“Consumer Response”) serves these and other functions. 12 U.S.C. 5493(b)(3)(A).

³ 12 U.S.C. 5534(a).

⁴ Consumer Financial Protection Bureau, Consumer Response Annual Report (Mar. 2012), available at http://files.consumerfinance.gov/f/201204_cfpb_ConsumerResponseAnnualReport.pdf.

⁵ 12 U.S.C. 5511(b)(1) authorizes the Bureau to ensure that, with respect to consumer financial products and services, “consumers are provided with timely and understandable information to make responsible decisions about financial transactions”; some of this work occurs in the consumer complaint and inquiry processes performed within the Office of Consumer Response.

Since it began accepting consumer complaints and consumer inquiries in July 2011, the Bureau has established reasonable procedures to provide consumers with timely responses to their complaints and inquiries, in writing where appropriate.⁶ To date, the Bureau has received more than 1.5 million consumer complaints. The consumer complaint process seeks to provide consumers with timely responses to their complaints, while the consumer inquiry process aims to provide timely answers to consumers who submit inquiries. Both processes support the Bureau's statutory objective to provide consumers with timely and understandable information about consumer financial products and services to make responsible decisions. To that end, the Bureau has established reasonable procedures for responding to both consumer complaints and consumer inquiries.

⁶ 12 U.S.C. 5534(a).

Though the Bureau is required to establish reasonable procedures to provide timely responses to consumer complaints and consumer inquiries, certain aspects of the complaint and inquiry handling processes were developed in furtherance of those statutory requirements but are not directly mandated by statute. Mindful of the Bureau's statutory objective to provide consumers with timely and understandable information about consumer financial products and services so they can make responsible decisions, as well as its statutory obligations to (1) establish reasonable procedures to provide consumers with timely responses and (2) centralize the collection of consumer complaints about consumer financial products or services, the Bureau has used feedback from a variety of stakeholders to establish and refine its processes over time to improve stakeholders' experience, handle large volumes of complaints and inquiries,⁷ and increase overall efficiency.

⁷ In 2017, the Bureau received more than 500,000 consumer complaints and consumer inquiries.

Consumer Complaint Process. To “facilitate the centralized collection of, monitoring of, and response to consumer complaints regarding consumer financial products or services,” the Bureau accepts complaints through its website; by referral from the White House, congressional offices, Federal agencies, and State agencies; and by telephone, mail, email, and fax. When consumers ⁸ choose to submit complaints, the Bureau's complaint form prompts them to select the consumer financial product or service with which they have a problem as well as the type of problem they are having with that product or service. This provides information that can be used to group complaints to understand the financial products and services about which consumers complain to the Bureau. The complaint form also requires consumers to affirm that the information provided in their complaint is true to the best of their knowledge and belief. The Bureau routes complaints about consumer financial products and services directly to financial companies and works with them to get consumers a timely response from the company, generally within 15 days. Where appropriate, complaints are routed to other Federal agencies.⁹ The company reviews the information, communicates with the consumer as needed, and determines what action to take in response. The company then responds to the consumer and the Bureau in writing via the secure company portal, and the Bureau invites the consumer to review the company's response and provide feedback about the response received from the company. Consumers can log onto the secure consumer portal available on the Bureau's website or call the Bureau to receive status updates, provide additional information, and review responses provided by the company. In 2017, the Bureau handled more than 320,000 consumer complaints.¹⁰

⁸ The term `consumer' means an individual or an agent, trustee, or representative acting on behalf of an individual.” 12 U.S.C. 5481(4)

⁹ The Bureau refers or sends complaints to another regulator when, for example, a particular complaint does not involve a product or service currently handled by the Bureau.

¹⁰ Consumer Financial Protection Bureau, Consumer Response Annual Report (Apr. 2018), available at https://www.consumerfinance.gov/documents/6406/cfpb_consumer-response-annual-report_2017.pdf.

Consumer Inquiry Process. The Bureau's single, toll-free telephone number ¹¹ gives consumers the opportunity to ask questions about financial products or services, submit a complaint, and check the status of a complaint. Consumers can also inquire about the Bureau and a subset of its recent actions. When consumers call with an inquiry about consumer financial products or services, a Bureau representative collects basic information about the consumer, listens to the consumer describe their situation and question, and provides clear, unbiased educational information about financial products and services. Representatives do not provide legal advice to consumers, nor do they encourage consumers to take any particular action. Instead, when appropriate, representatives direct consumers to Bureau educational materials and tools, and other relevant government resources. The Bureau's U.S.-based contact center provides services to consumers in more than 180 languages and to consumers who are deaf, have hearing loss, or have speech disabilities. In 2017, the Bureau received more than 200,000 consumer inquiries.

¹¹ 12 U.S.C. 5493(b)(3)(A).

Overview of This Request for Information

The Bureau is using this request for information (RFI) to seek public input regarding potential changes that can be implemented to the Bureau's consumer complaint and inquiry handling processes, consistent with law, to consider whether any changes to existing practices would be appropriate given the Bureau's statutory objective to provide consumers with timely and understandable information about consumer financial products and services to make responsible decisions as well as its statutory obligations to (1) establish reasonable procedures to provide timely responses to consumers and (2) centralize the collection of consumer complaints regarding consumer financial products or services. The Bureau encourages comments from all interested members of the public, including financial industry participants, government agencies, academic and research organizations, consumer advocacy and financial education groups, trade associations, and consumers.

The Bureau previously issued an RFI seeking public input regarding potential changes that can be implemented to the Bureau's public reporting practices of consumer complaint information, consistent with law, to consider whether any changes to the practices would be appropriate.¹² The Bureau will consider for the purposes of this RFI, and to the extent relevant, all comments previously received in connection with that request. Respondents, therefore, should not feel any obligation to include in their responses to this RFI suggestions and comments already submitted in response to the call for evidence on public reporting practices of consumer complaint information.

¹² Request for Information Regarding Bureau Public Reporting Practices of Consumer Complaint Information, 83 FR 9499 (March 6, 2018).

Suggested Topics for Commenters

To allow the Bureau to evaluate suggestions more effectively, the Bureau requests that, where possible, comments include:

• Specific discussion of the positive and negative aspects of the Bureau's complaint and inquiry processes;

• Specific suggestions regarding any potential updates or modifications to the Bureau's complaint and inquiry processes, consistent with the law and given one of the Bureau's statutory obligations is to establish reasonable procedures to provide consumers with timely responses to complaints and inquiries, including, in as much detail as possible, the nature of the modification, and supporting data or other information on impacts and costs;

• Specific best practices for complaint and inquiry processes given the Bureau's statutory objectives and functions, including ensuring consumers are provided with timely and understandable information to make responsible decisions about financial transactions ¹³ and centralizing the collection of consumer complaints about consumer financial products or services.

¹³ 12 U.S.C. 5511(b)(1).

The following represents a preliminary attempt by the Bureau to identify elements of the Bureau's complaint and inquiry processes on which commenters may want to comment. This non-exhaustive list is meant to assist in the formulation of comments and is not intended to restrict the issues that may be addressed. In addressing these issues and questions, the Bureau requests that commenters identify with specificity the complaint or inquiry processes feature at issue, providing legal citations where appropriate and available.

The Bureau is seeking feedback on all aspects of its consumer complaint and inquiry handling processes, including:

1. Specific statutorily-permissible suggestions regarding how the Bureau currently allows consumers to submit complaints and inquiries, including:

a. Should the Bureau require consumers to classify their submission affirmatively as a consumer complaint or inquiry prior to submission?

b. How should the Bureau explain the difference between a consumer complaint and a consumer inquiry to consumers at the point of submission?

c. Should the Bureau develop a process for companies to reclassify consumers' submissions? If so, what criteria should the Bureau establish to help companies differentiate consumer complaints from consumer inquiries?

2. Specific statutorily-permissible suggestions regarding the Bureau's consumer complaint processes, including:

a. The Bureau currently receives complaints via six channels: Website, referral from Federal and State entities/agencies, telephone, mail, fax, and email. Should the Bureau add or discontinue any channels for accepting complaints?

b. Consistent with the Dodd-Frank Act's definition of “consumer,” the Bureau currently allows consumers to authorize someone else (e.g., lawyer, advocate, power of attorney) to submit complaints on their behalf. Should the Bureau expand, limit, or maintain the ability of authorized third parties to submit complaints?

3. Specific statutorily-permissible suggestions regarding the Bureau's consumer inquiry processes, including:

a. The Bureau currently accepts consumer inquiries via telephone and mail. Should the Bureau add or discontinue any channels for accepting inquiries?

b. Should the Bureau develop web chat systems to support consumers' submission of inquiries?

c. Should the Bureau develop a process for companies to provide timely responses to consumer inquiries sent to them by the Bureau? If so, how should the Bureau balance its objective of providing timely and understandable information to consumers ¹⁴ with its objective of reducing unwarranted regulatory burden on companies? ¹⁵

¹⁴ 12 U.S.C. 5511(b)(1).

¹⁵ 12 U.S.C. 5511(b)(3).

d. Should the Bureau publish data about consumer inquiries? If so, what types of data or analyses about consumer inquiries should be shared with the public?

Authority: 12 U.S.C. 5511(c).

Dated: April 10, 2018.
Mick Mulvaney,
Acting Director, Bureau of Consumer Financial Protection.

[FR Doc. 2018-07943 Filed 4-16-18; 8:45 am]

BILLING CODE 4810-AM-P